DEPARTMENT OF THE INTERIOR

Bureau of Land Management

[LLNVS00560.L58530000.ES0000; N-89341; 12-08807; MO# 4500030924; TAS: 14X5232]

Notice of Realty Action: Non-Competitive Direct Sale of Reversionary Interest Recreation and Public Purpose Act Patent, Clark County, NV

AGENCY: Bureau of Land Management, Interior.

ACTION: Notice.

SUMMARY: The Bureau of Land Management (BLM) proposes to offer one parcel of public land totaling approximately 5 acres in the Las Vegas Valley by non-competitive direct sale to the entity. The purpose of the direct sale is to dispose of certain reservations, conditions, and limitations contained in Patent No. 27-82-0020. The authority for the sale is Section 203 of the Federal Land Policy and Management Act of 1976 (FLPMA).

DATES: Interested parties may submit written comments to the BLM regarding the proposed sale on or before July 9, 2012.

ADDRESSES: Mail written comments to the BLM Field Manager, 4701 N. Torrey Pines Drive, Las Vegas, NV 89130, or email to: jpickren@blm.gov.

FOR FURTHER INFORMATION CONTACT: Jill Pickren, Realty Specialist, 702-515-5194. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: The parcel proposed for sale is located north of Eastern Avenue and west of Channel 10 Drive in Las Vegas, Nevada. The following described land was patented to The Roman Catholic Bishop of Reno on August 6, 1982:

Mount Diablo Meridian

T. 21 S., R. 61 E.,

Sec. 23, lot 48.

The area described contains 5 acres, more or less, in Clark County.

This proposed non-competitive direct sale is in conformance with the BLM Las Vegas Resource Management Plan (RMP) and the Record of Decision (ROD) approved on October 5, 1998, as clarified by a Plan Maintenance Record (PMR-Las Vegas-2012-01) dated March 2, 2012.

The lands are being offered for sale using direct sale procedures pursuant to 43 CFR 2711.3-3. This parcel of public land is proposed for sale at no less than the appraised fair market value (FMV) of $435,000, dated May 26, 2011, as determined by the authorized officer. The appraisal report is available for public review at the BLM Las Vegas Field Office (LVFO) at the address above.

This parcel of public land may be sold under the FLPMA Section 203 where, as a result of land use planning required under the FLPMA Section 202, the Secretary determines that the sale of this parcel meets the following disposal criteria: (1) Such tract is difficult and uneconomic to manage because of its location or other characteristics—such as the subject's history of use, current level of development, and is not suitable for management by another Federal department or agency. The Roman Catholic Bishop of Las Vegas has asked to purchase the reversionary interest in the parcel in order to obtain a fee simple title for The Roman Catholic Bishop of Las Vegas to then sell the parcel without conditions of reversion. A Certificate of Amendment of the Articles of Incorporation was filed with Secretary of State of the State of Nevada on June 29, 1995, changing the name from The Roman Catholic Bishop of Reno to The Roman Catholic Bishop of Las Vegas. The Roman Catholic Bishop of Las Vegas requested to relinquish the parcel due to maintenance, health and safety issues. The parcel requires continual and costly maintenance to remove brush and shrubs which facilitate unauthorized occupancy. The BLM does not wish to accept relinquishment of the parcel. The parcel is completely surrounded by private lands and would be difficult and uneconomic for the LVFO to manage. This parcel is identified as suitable for disposal in the BLM Las Vegas RMP and the ROD. The identified lands are not needed for any Federal purpose. The proposed disposal action is consistent with the objectives, goals, and decisions of the RMP and would be in the public interest. The public lands would be sold under the direct-sale method as described by 43 CFR 2711.3-3(a) and 43 CFR 2711.3-3(a)(2).

Under 43 CFR 2711.3-1 (c) and (d), a deposit of not less than 20 percent of the FMV must be submitted 30 days from the date of the sale offer by 4:30 p.m. Pacific Time at the LVFO. Payment must be made in the form of a cashier's check, certified check, U.S. postal money order, or bank draft, and made payable in U.S. dollars to the “Department of the Interior—Bureau of Land Management.” Personal or company checks will not be accepted. Upon receipt of the 20 percent bid deposit, the BLM will send the purchaser a sale offer letter with detailed information for full payment. Failure to meet conditions for this sale will void the sale and any monies received will be forfeited.

Pursuant to 43 CFR 2711.2, qualified conveyees must be (1) United States citizens 18 years of age or older; (2) A corporation subject to the laws of any State or of the United States; (3) An entity including, but not limited to, associations or partnerships capable of acquiring and owning real property, or interests therein, under the laws of the State of Nevada; or (4) A State, State instrumentality, or political subdivision authorized to hold real property. Failure to submit the above requested documents to the BLM within 30 days from receipt of the sale offer letter shall result in cancellation of the sale and forfeiture of the bid deposit.

No contractual, or other rights against the United States, may accrue until the BLM officially accepts the offer to purchase and the full purchase price is paid.

Upon conveyance of the reversionary interest, the identified parcel of public lands would no longer be subject to the reservations, conditions, and limitations in Patent No. 27-82-0020 (unless otherwise noted below). Rather, the following terms, conditions and reservations would apply, and will appear as reservations to the United States on the conveyance document for this parcel.

(1) All minerals for the parcel will be reserved in accordance with 43 CFR 2740.0-6 (c) and Patent No. 27-82-0020.

(2) A right-of-way is reserved for ditches and canals constructed by authority of the United States under the Act of August 30, 1890 (43 U.S.C. 945); and

(3) All mineral deposits in the land so patented are reserved to the United States, or persons authorized by the United States, along with the right to prospect for, mine, and remove such deposits from the same, as well as any necessary access or egress, under applicable law and regulations to be established by the Secretary of the Interior.

In addition, the conveyance will be subject to the following terms and conditions:

1. An easement 50 feet in width along the east boundary for road and public utilities purposes to ensure continued ingress and egress to adjacent lands;

2. An easement 30 feet in width along the west boundary for road and public utilities purposes to ensure continued ingress and egress to adjacent lands;

3. The parcel is subject to valid existing rights;

4. The parcel is subject to reservations for road, public utilities and flood control purposes, both existing and proposed, in accordance with the local governing entities' transportation plan; and

5. By accepting this patent, the patentee agrees to indemnify, defend and hold the United States harmless from any costs, damages, claims, causes of action, penalties, fines, liabilities, and judgments of any kind or nature arising from the past, present, and future acts or omissions of the patentee, its employees, agents, contractors, or lessees, or any third-party, arising out of, or in connection with, the patentee's use, occupancy, or operations on the patented real property. This indemnification and hold harmless agreement includes, but is not limited to, acts and omissions of the patentee, its employees, agents, contractors, or lessees, or third party arising out of or in connection with the use and/or occupancy of the patented real property resulting in: (a) Violations of Federal, State, and local laws and regulations applicable to the real property; (b) judgments, claims or demands of any kind assessed against the United States; (c) costs, expenses, damages of any kind incurred by the United States; (d) releases or threatened releases on, into or under land, property and other interests of the United States of solid or hazardous wastes and/or hazardous substances, as defined by Federal or State environmental laws; (e) other activities by which solid or hazardous substances or wastes, as defined by Federal and State environmental laws were generated, released, stored, used or otherwise disposed of on the patented real property, and any cleanup response, remedial action, or other actions related in any manner to said solid or hazardous substances or wastes; or (f) natural resource damages as defined by Federal and State law. This covenant shall be construed as running with the patented real property, and may be enforced by the United States in a court of competent jurisdiction.

Unless other satisfactory arrangements are approved in advance by a BLM authorized officer, conveyance of title shall be through the use of escrow. Designation of the escrow agent shall be through mutual agreement between the BLM and the prospective patentee, and costs of escrow shall be borne by the prospective patentee.

Requests for all escrow instructions must be received by the LVFO prior to 30 days before the prospective patentee's scheduled closing date. There are no exceptions.

No contractual or other rights against the United States may accrue until the BLM officially accepts the offer to purchase, and the full price is submitted by the 180th day following the sale.

All name changes and supporting documentation must be received at the LVFO 30 days from the date on the sale offer letter by 4:30 p.m., Pacific Time. Name changes will not be accepted after that date. To submit a name change, the purchaser must complete a Certificate of Eligibility in writing and submit it to the LVFO. Certificates of Eligibility are available at the LVFO and the BLM Web site at: http://www.blm.gov/nv/st/en/snplma/Land_Auctions.html.

The remainder of the full price for the parcel must be paid prior to the expiration of the 180th day following the BLM's acceptance of the 20 percent deposit. Payment must be submitted in the form of a certified check, U.S. postal money order, bank draft, or cashier's check made payable in U.S. dollars to the “Department of the Interior—Bureau of Land Management.” Personal or company checks will not be accepted.

Arrangements for electronic fund transfer to the BLM for payment of the balance due must be made a minimum of 2 weeks prior to the payment date. Failure to pay the full bid price prior to the expiration of the 180th day will disqualify the purchaser and cause the entire 20 percent deposit to be forfeited to the BLM. Forfeiture of the 20 percent deposit is in accordance with 43 CFR 2711.3-1(d). No exceptions will be made. The BLM cannot accept the full price after the 180th day of the sale date.

The BLM will not sign any documents related to 1031 Exchange transactions. The timing for completion of the exchange is the bidder's responsibility in accordance with Internal Revenue Service's regulations. The BLM is not a party to any 1031 Exchange.

All sales are made in accordance with and subject to the governing provisions of law and applicable regulations.

In accordance with 43 CFR 2711.3-1(f), the BLM may accept or reject any or all offers to purchase, or withdraw any parcel of land or interest therein from sale, if, in the opinion of a BLM authorized officer, consummation of the sale would be inconsistent with any law, or for other reasons.

In order to determine the FMV, certain assumptions may have been made concerning the attributes and limitations of the lands and potential effects of local regulations and policies on potential future land uses. Through publication of this notice, the BLM advises that these assumptions may not be endorsed or approved by units of local government. It is the buyer's responsibility to be aware of all applicable Federal, State, and local government laws, regulations, and policies that may affect the subject lands, including any required dedication of lands for public uses. It is also the buyer's responsibility to be aware of existing or prospective uses of nearby properties. When conveyed out of Federal ownership, the lands will be subject to any applicable laws, regulations, and policies of the applicable local government for proposed future uses. It will be the responsibility of the buyer to be aware through due diligence of those laws, regulations, and policies, and to seek any required local approvals for future uses. The buyer should also make themselves aware of any Federal or State law or regulation that may impact the future use of the property. Any land lacking access from a public road or highway will be conveyed as such, and future access acquisition will be the responsibility of the buyer.

A map delineating the individual proposed sale parcel is available for public review at the LVFO, which is located at the address above. The FMV for the sale parcel will be available for review 60 days prior to the sale date. Information concerning the sale, appraisal, reservations, procedures and conditions, Comprehensive Environmental Response, Compensation, and Liability Act of 1980 (CERCLA), and other environmental documents will be available for review at the LVFO, or by calling 702-515-5194 and asking to speak to Jill Pickren, Realty Specialist. You may contact the LVFO from 7:30 a.m. to 4:30 p.m., Monday through Friday (except Federal holidays).

Only written comments will be considered properly filed.

Before including your address, phone number, email address, or other personal identifying information in your comment—you should be aware that your entire comment, including your personal identifying information—may be made publicly available at any time. While you can ask us in your comment to withhold your personal identifying information from public review, we cannot guarantee that we will be able to do so.

Any adverse comments regarding the proposed sale will be reviewed by the BLM Nevada State Director, who may sustain, vacate, or modify this realty action. In the absence of any adverse comments, this realty action will become the final determination of the Department of the Interior.

Authority: 43 CFR 2711.1-2(d).

Vanessa L. Hice,
Assistant Field Manager, Division of Lands.

[FR Doc. 2012-12567 Filed 5-23-12; 8:45 am]

BILLING CODE 4310-HC-P